SMALL BUSINESS ADMINISTRATION

[Disaster Declaration #13054 and #13055]

West Virginia Disaster Number WV-00027

AGENCY: U.S. Small Business Administration.

ACTION: Amendment 1.

SUMMARY: This is an amendment of the Presidential declaration of a major disaster for the State of West Virginia (FEMA-4061-DR), dated 03/22/2012.

Incident: Severe Storms, Flooding, Mudslides, and Landslides.

Incident Period: 03/15/2012 through 03/31/2012.

Effective Date: 03/31/2012.

Physical Loan Application Deadline Date: 05/21/2012.

EIDL Loan Application Deadline Date: 12/24/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of West Virginia, dated 03/22/2012 is hereby amended to establish the incident period for this disaster as beginning 03/15/2012 and continuing through 03/31/2012.

All other information in the original declaration remains unchanged.

(Catalog of Federal Domestic Assistance Numbers 59002 and 59008)

James E. Rivera,
Associate Administrator for Disaster Assistance.

[FR Doc. 2012-9456 Filed 4-18-12; 8:45 am]

BILLING CODE 8025-01-P